DEPARTMENT OF HEALTH AND HUMAN SERVICES

Administration for Children and Families

Submission for OMB Review; Comment Request

Title: Compassion Capital Fund Evaluation—Indicators of Organizational Capacity Among Targeted Capacity Building Program Grantees.

OMB No.: New Collection.

Description: This information collection activity is for a study of grantees under the Targeted Capacity Building Program that is one component of the evaluation of the Compassion Capital Fund (CCF) program. The information collection will be through mailed surveys to be completed by selected faith-based and community organizations that received Targeted Capacity Building grants under the CCF program.

The overall evaluation includes multiple components that will examine indicators, outcomes and effectiveness of the CCF in meeting its objective of improving the capacity of faith-based and community organizations. This component of the evaluation will involve approximately 309 faith-based and community organizations. Information will be sought from these organizations to assess change and improvement in various areas of organizational capacity resulting from receipt of a Targeted Capacity Building grant.

Respondents: The respondents will be selected faith-based and community organizations that received a Targeted Capacity Building grant in a prior year. The surveys will be self-administered.

Annual Burden Estimates:

Instrument | Number of respondents | Number of responses per respondent | Average burden hours per response | Total burden hours
Indicators of Organizational Capacity Survey | 309 | 1 | .499 | 154

Estimated Total Annual Burden Hours: 154.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. FAX: 202-395-6974. Attn: Desk Officer for ACF.

Dated: January 25, 2007.
Robert Sargis,
Reports Clearance Officer.

[FR Doc. 07-431 Filed 1-31-07; 8:45 am]

BILLING CODE 4184-01-M